DEPARTMENT OF THE INTERIOR

Bureau of Land Management

[NV-050-5853-ES; N-77996, Nev-054655]

Notice of Realty: Partial Transfer of Patent/Change of Use for Recreation and Public Purposes, Las Vegas, NV

AGENCY: Bureau of Land Management, Interior.

ACTION: Notice of realty action.

SUMMARY: BLM has determined that land located in Clark County, Nevada is suitable for partial transfer of patent and change of use to Chabad Hebrew Center.

FOR FURTHER INFORMATION CONTACT: Anna Wharton, Supervisory Realty Specialist, (702) 515-5095.

SUPPLEMENTARY INFORMATION: The following described public land in Las Vegas, Clark County, Nevada was patented to the City of Las Vegas for recreational or public purposes under the provisions of the Recreation and Public Purpose Act, as amended (43 U.S.C. 869 et seq.) in Patent #27-96-0031 (Nev-054655), dated May 31, 1996. The Chabad Hebrew Center is a qualified nonprofit recreation and public purposes holder as described in 43 CFR 2741.2. The center proposes to develop the transferred land as a Hebrew Center according to the plan of development for case file #N-77996. The City of Las Vegas wishes to transfer a portion of this patented land to the Chabad Hebrew Center. The change of use will be from a public park to a Hebrew Center.

N-77996 “ Chabad Hebrew Center proposes to use the land for a Hebrew Center.

Mount Diablo Meridian, Nevada

T. 20 S., R. 60 E., sec 29, N½NE¼NE¼NE¼.

Containing 5 acres, more or less.

The land is not required for any federal purpose. The Hebrew Center will consist of a synagogue, social hall, classrooms and administrative offices. The partial transfer of patent/change of use is consistent with current Bureau planning for this area and would be in the public interest. The patent, when transferred, will be subject to the provisions of the Recreation and Public Purposes Act and applicable regulations of the Secretary of the Interior, and will contain the following reservations to the United States, as detailed in the original patent.

1. A right-of-way for ditches or canals constructed by the authority of the United States, Act of August 30, 1890 (43 U.S.C. 945).

2. All minerals shall be reserved to the United States, together with the right to prospect for, mine and remove such deposits from the same under applicable law and such regulations as the Secretary of the Interior may prescribe.

And will be subject to:

1. All valid and existing rights.

Detailed information concerning this action is available for review at the office of the Bureau of Land Management, Las Vegas Field Office, 4701 N. Torrey Pines Drive, Las Vegas, Nevada. Interested parties may submit comments regarding the proposed partial transfer of patent/change of use for classification of the lands to the Field Manager, 4701 N. Torrey Pines Drive, Las Vegas Field Office, Las Vegas, Nevada 89130 until March 10, 2005.

Classification Comments: Interested parties may submit comments involving the suitability of the land for a Hebrew Center. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a Hebrew Center. Any adverse comments will be reviewed by the State Director. In the absence of any adverse comments, the classification of the land described in this Notice will become effective on March 25, 2005. The lands will not be offered for patent transfer until after the classification becomes effective.

Dated: June 24, 2004.
Sharon DiPinto,
Assistant Field Manager, Division of Lands, Las Vegas, NV.

Editorial Note: This document was received in the Office of the Federal Register on January 18, 2005.

[FR Doc. 05-1200 Filed 1-21-05; 8:45 am]

BILLING CODE 4310-HC-P